DEPARTMENT OF ENERGY

Federal Energy Regulatory Commission

[Docket Nos. PR02-10-006, PR04-15-001, PR04-16-002, PR05-3-001]

Enogex Inc.; Notice of Shortened Comment Period

August 19, 2005.

Take notice that on August 16, 2005, Enogex Inc. filed an Offer of Settlement in the above-docketed proceeding. Included in its filing was a request to shorten the period for filing initial and reply comments in response to the Offer of Settlement. We will grant the request. Accordingly, we are shortening the date for filing initial comments to and including August 26, 2005. Reply comments should be filed on or before August 31, 2005.

Linda Mitry,
Deputy Secretary.

[FR Doc. E5-4668 Filed 8-25-05; 8:45 am]

BILLING CODE 6717-01-P